DEPARTMENT OF ENERGY

Federal Energy Regulatory Commission

Combined Notice of Filings

Take notice that the Commission has received the following Natural Gas Pipeline Rate and Refund Report filings:

Filings Instituting Proceedings

Docket Numbers: PR15-24-001.

Applicants: Centana Intrastate Pipeline, LLC.

Description: Submits tariff filing per 284.123(b), (e) + (g): CIPCO SOC Settlement Filing to be effective 3/1/2015; Filing Type: 1270.

Filed Date: 4/16/15.

Accession Number: 20150416-5082.

Comments Due: 5 p.m. ET 5/7/15.

284.123(g) Protests Due: 5 p.m. ET 5/7/15.

Docket Numbers: RP15-892-000.

Applicants: Equitrans, L.P.

Description: Section 4(d) rate filing per 154.204: Negotiated Capacity Release Agreement—4/17/2015 to be effective 4/17/2015.

Filed Date: 4/16/15.

Accession Number: 20150416-5129.

Comments Due: 5 p.m. ET 4/28/15.

Docket Numbers: RP15-893-000.

Applicants: Gulf South Pipeline Company, LP.

Description: Section 4(d) rate filing per 154.204: Amendment to Neg Rate Agmt (FPL 41619-4) to be effective 4/16/2015.

Filed Date: 4/16/15.

Accession Number: 20150416-5170.

Comments Due: 5 p.m. ET 4/28/15.

Docket Numbers: RP15-894-000.

Applicants: Cheyenne Plains Gas Pipeline Company, L.

Description: Section 4(d) rate filing per 154.601: Negotiated Rate Agreements (Mieco) to be effective 4/17/2015.

Filed Date: 4/16/15.

Accession Number: 20150416-5232.

Comments Due: 5 p.m. ET 4/28/15.

Docket Numbers: RP15-895-000.

Applicants: Centra Pipelines Minnesota Inc.

Description: Section 4(d) rate filing per 154.204: Updated Index of Shippers April 2015 to be effective 6/1/2015.

Filed Date: 4/17/15.

Accession Number: 20150417-5082.

Comments Due: 5 p.m. ET 4/29/15.

Docket Numbers: RP15-896-000.

Applicants: Transcontinental Gas Pipe Line Company.

Description: Section 4(d) rate filing per 154.403: SS-2 Inventory Adjustment Filing to be effective 5/1/2015.

Filed Date: 4/17/15.

Accession Number: 20150417-5086.

Comments Due: 5 p.m. ET 4/29/15.

Docket Numbers: RP15-897-000.

Applicants: Horizon Pipeline Company, L.L.C.

Description: Section 4(d) rate filing per 154.204: Filing to Substitute Published Index Prices to be effective 6/1/2015.

Filed Date: 4/17/15.

Accession Number: 20150417-5299.

Comments Due: 5 p.m. ET 4/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2015.
Nathaniel J. Davis, Sr.,
Deputy Secretary.

[FR Doc. 2015-09968 Filed 4-28-15; 8:45 am]

BILLING CODE 6717-01-P